DEPARTMENT OF HOMELAND SECURITY

Privacy Office; Data Integrity, Privacy, and Interoperability Advisory Committee

AGENCY: Privacy Office, DHS.

ACTION: Committee management; notice of establishment and request for applications for membership.

SUMMARY: The Department of Homeland Security provides notice of establishment of the Data Integrity, Privacy, and Interoperability Advisory Committee. This notice also requests qualified individuals interested in serving on this committee to apply for membership.

DATES: Applications forms for membership should reach the Privacy Office on or before April 30, 2004.

ADDRESSES: You may request a copy of the Committee's charter or an application form by writing to Ms. Tina Hubbell, U.S. Department of Homeland Security Privacy Office, Washington, DC 20528, by calling (202) 772-9848, or by faxing (202) 772-5036. The Committee's charter will also be available at www.dhs.gov/privacy. Send your application in written form to the above address.

FOR FURTHER INFORMATION CONTACT: Ms. Nuala O'Connor Kelly, Chief Privacy Officer, Department of Homeland Security, Washington, DC 20528, telephone (202) 772-9848.

SUPPLEMENTARY INFORMATION: The Secretary of the Department of Homeland Security has determined that the establishment of the Data Integrity, Privacy, and Interoperability Advisory Committee is necessary and in the public interest in connection with the performance of duties of the Chief Privacy Officer. This determination follows consultation with the Committee Management Secretariat, General Services Administration.

Name of Committee: Data Integrity, Privacy, and Interoperability Advisory Committee.

Purpose and Objective: The Committee will advise the Secretary of the Department of Homeland Security (DHS) and the Chief Privacy Officer on programmatic, policy, operational, administrative, and technological issues within DHS that affect individual privacy, as well as data integrity and data interoperability and other privacy related issues.

Duration: Continuing.

Balanced Membership Plans: This Committee will be composed of not less than 12 members, appointed by the Secretary, who shall be specially qualified to serve on the Committee by virtue of their education, training, or experience and who are recognized experts in the fields of data protection, privacy, interoperability, and/or emerging technologies. Membership shall be balanced among individuals from the following fields:

• Individuals who are currently working in the areas of higher education or research in public (except Federal) or not-for-profit institutions;

• Individuals currently working in non-governmental industry or commercial interests, including at least one representative of a small to medium enterprise;

• Other individuals, as determined appropriate by the Secretary.

Individuals may be required to have an appropriate security clearance before appointment to membership on the Committee.

Membership terms will be for up to 4 years, with the terms of the initial appointees staggered in 2-, 3-, and 4-year terms to permit continuity and orderly turnover of membership. Thereafter, members shall generally be appointed to 4-year terms of office.

Members will not be compensated for their service on the Committee; however, while attending meetings or otherwise engaged in Committee business, members may receive travel and per diem in accordance with Federal Government regulations.

Dated: April 6, 2004.
Nuala O'Connor Kelly,
Chief Privacy Officer.

[FR Doc. 04-8106 Filed 4-8-04; 8:45 am]

BILLING CODE 4410-10-P